FEDERAL ELECTION COMMISSION

Sunshine Act Meeting

FEDERAL REGISTER CITATION OF PREVIOUS ANNOUNCEMENT: 87 FR 36325.

PREVIOUSLY ANNOUNCED TIME AND DATE OF THE MEETING:

Thursday, June 23, 2022 at 10:00 a.m.

Hybrid Meeting: 1050 First Street NE, Washington, DC (12th Floor) and virtual.

CHANGES IN THE MEETING:

The following matter was also considered:

Draft Advisory Opinion 2022-08: National Republican Congressional Committee (“NRCC”).

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2022-13823 Filed 6-24-22; 11:15 am]

BILLING CODE 6715-01-P